COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products and services previously furnished by nonprofit agencies employing persons who are blind or have other severe disabilities.

DATES: Comments must be received on or before November 27, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and services are proposed for deletion from the Procurement List:

Products

NSN(s)—Product Name(s): 7510-01-565-9539—Tape, Double-Sided

Mandatory Source(s) of Supply: Alphapointe, Kansas City, MO

Contracting Activity: General Services Administration, New York, NY

NSN(s)—Product Name(s): 7530-00-290-0600—Paper, Xerographic, Dual Purpose, White, U.S. Federal Watermarked, 8.5″ × 14″

Mandatory Source(s) of Supply: Louisiana Association for the Blind, Shreveport, LA

Contracting Activity: General Services Administration, New York, NY

Services

Service Type: Mailing of Initial Tech Orders

Mandatory for: Robins Air Force Base, Robins AFB, GA

Mandatory Source(s) of Supply: Houston County Association for Exceptional Citizens, Inc., Warner Robins, GA

Contracting Activity: Dept. of the Air Force, FA8501 AFSC PZIO

Service Type: Janitorial/Custodial Service

Mandatory for: Department of the Air Force, Buildings 529 and 575, Randolph AFB, TX

Mandatory Source(s) of Supply: Relief Enterprise, Inc., Austin, TX

Contracting Activity: Dept. of the Air Force, FA7014 AFDW PK

Service Type: Administrative Services

Mandatory for: 426 5th Avenue, Sheppard AFB, TX

Mandatory Source(s) of Supply: Work Services Corporation, Wichita Falls, TX

Contracting Activity: Dept. of the Air Force, FA3020 82 CONS LGC

Service Type: Janitorial/Custodial Service

Mandatory for: Missouri Air National Guard, 10800 Lambert International Boulevard, Bridgeton, MO

Mandatory Source(s) of Supply: MGI Services Corporation, St. Louis, MO

Contracting Activity: Dept. of the Air Force, FA7014 AFDW PK

Service Type: Custodial Service

Mandatory for: Defense Finance and Accounting Service (DFAS)—Denver Center, 6760 E. Irvington Place, Denver, CO

Mandatory Source(s) of Supply: North Metro Community Services for Developmentally Disabled, Westminster, CO

Contracting Activity: Dept. of the Air Force, FA7014 AFDW PK

Barry S. Lineback,
Director, Business Operations.

[FR Doc. 2016-26077 Filed 10-27-16; 8:45 am]

BILLING CODE 6353-01-P